DEPARTMENT OF HOMELAND SECURITY

Coast Guard

33 CFR Part 165

[CGD09-01-002]

Safety Zone; Captain of the Port Detroit Zone

AGENCY: Coast Guard, DHS.

ACTION: Notice of implementation of regulation.

SUMMARY: The Coast Guard is implementing safety zones for annual fireworks displays in the Captain of the Port Detroit Zone during July 2003. This action is necessary to provide for the safety of life and property on navigable waters during these events. These zones will restrict vessel traffic from a portion of the Captain of the Port Detroit Zone.

DATES: Effective from 12:01 a.m. (eastern time) on July 1, 2003, to 11:59 p.m. (eastern time) on July 31, 2003.

FOR FURTHER INFORMATION CONTACT: Lieutenant Junior Grade Brandon Sullivan, U.S. Coast Guard Marine Safety Office Detroit, MI at (313) 568-9580.

SUPPLEMENTARY INFORMATION: The Coast Guard is implementing the permanent safety zones in 33 CFR 165.907 (66 FR 27868, May 21, 2001), for fireworks displays in the Captain of the Port Detroit Zone during July 2003. The following safety zones are in effect for fireworks displays occurring in the month of July 2003:

• City of Wyandotte Fireworks, Wyandotte, MI.

Location. The waters off the breakwall between Oak & Van Alstyne St., Detroit River bounded by the arc of a circle with a 300-yard radius with its center in approximate position 42°12′ N, 083°09′ W.

Enforcement period. July 2, 2003, from 7 p.m. until 11 p.m.

• Caseville Fireworks, Caseville, MI.

Location. The waters off the Caseville breakwall, Saginaw River bounded by the arc of a circle with a 300-yard radius with its center in approximate position 43°55′ N, 083°17′ W.

Enforcement period. July 5, 2003, from 7 p.m. until 11 p.m.

• Lake Erie Metro Park Fireworks.

Location. The waters off the Brownstown Wave Pool area, Lake Erie bounded by the arc of a circle with a 300-yard radius with its center in approximate position 42°03′ N, 083°11′ W.

Enforcement period. July 5, 2003, from 8 p.m. until 11 p.m.

• Trenton Fireworks Display, Trenton, MI.

Location. All waters of the Trenton Channel within a 300-yard radius of the fireworks barge in approximate position 42°09′ N, 083°10′ W, about 200 yards east of Trenton, in the Trenton Channel.

Enforcement period. July 4, 2003, from 8 p.m. until 11 p.m.

• Port Sanilac Fireworks, Port Sanilac, MI.

Location. The waters off the South Harbor breakwall, Lake Huron bounded by the arc of a circle with a 300-yard radius with its center in approximate position 43°25′ N, 082°31′ W.

Enforcement period. July 4, 2003, from 8 p.m. until 11 p.m.

• City of Ecorse Water Festival Fireworks, Ecorse, MI.

Location. All waters of the Ecorse Channel within a 300-yard radius of the fireworks barge in approximate position 42°14′ N, 083°09′ W, at the northern end of Mud Island, Ecorse.

Enforcement period. July 4, 2003, from 8 p.m. until 11 p.m.

• Port Austin Fireworks.

Location. The waters off the Port Austin breakwall on Lake Huron, bounded by the arc of a circle with a 300-yard radius with its center in approximate position 43°03′ N, 082°40′ W.

Enforcement period. July 4, 2003, from 8 p.m. until 11 p.m.

• Tawas City 4th of July Fireworks, Tawas, MI.

Location. The waters off the Tawas City Pier, Lake Huron bounded by the arc of a circle with a 300-yard radius with its center in approximate position 44°13′ N, 083°30′ W.

Enforcement period. July 4, 2003, from 8 p.m. until 11 p.m.

• Belle Maer Harbor 4th of July Fireworks, Harrison Township, MI.

Location. All waters of Lake St. Clair within a 300-yard radius of the fireworks barge in approximate position 42°36′ N, 082°47′ W, about 400 yards east of Belle Maer Harbor, Lake St. Clair—Anchor Bay.

Enforcement period. July 4, 2003, from 8 p.m. until 11 p.m.

• Grosse Ile Yacht Club Fireworks, Grosse Ile, MI.

Location. The waters off the Grosse Ile Yacht Club deck, Detroit River bounded by the arc of a circle with a 300-yard radius with its center approximately located at 42°05′ N, 083°09′ W.

Enforcement period. July 4, 2003, from 8 p.m. to 11 p.m.

• Oscoda Township Fireworks.

Location. The waters off the DNR Boat Launch at the mouth of the Ausable River bounded by the arc of a circle with a 300-yard radius with its center in approximate position 44°19′ N, 083°25′ W.

Enforcement period. July 4, 2003, from 8 p.m. until 11 p.m.

• Grosse Pointe Yacht Club 4th of July Fireworks, Grosse Pointe Shores, MI.

Location. All waters of Lake St. Clair within a 300-yard radius of the fireworks barge in approximate position 42°25′ N, 082°52′ W, about 400 yards east of the Grosse Pointe Yacht Club seawall, Lake St. Clair.

Enforcement period. July 4, 2003, from 8 p.m. until 11 p.m.

• City of St. Clair Fireworks.

Location. The waters off St. Clair City Park, St. Clair River bounded by the arc of a circle with a 300-yard radius with its center in approximate position 42°49′ N, 082°29′ W.

Enforcement period. July 4, 2003, from 8 p.m. until 12 a.m.

• Algonac Pickerel Tournament Fireworks, Algonac, MI.

Location. All waters of the St. Clair River within a 300-yard radius of the fireworks barge in approximate position 42°37′ N, 082°32′ W, between Algonac and Russell Island, St. Clair River—North Channel.

Enforcement period. July 4, 2003, from 8 p.m. until 11 p.m.

• Lexington Independence Festival Fireworks, Lexington, MI.

Location. All waters of Lake Huron within a 300-yard radius of the fireworks barge in approximate position 43°13′ N, 082°30′ W, about 300 yards east of the Lexington breakwall, Lake Huron.

Enforcement period. July 4, 2003, from 8 p.m. until 11 p.m.

• Grosse Pointe Farms Fireworks, Grosse Pointe Farms, MI.

Location. All waters of Lake St. Clair within a 300-yard radius of the fireworks barge in approximate position 42°23′ N, 082°52′ W, about 300 yards east of Grosse Pointe Farms.

Enforcement period. July 5, 2003, from 8 p.m. to 11 p.m.

In order to ensure the safety of spectators and transiting vessels, these safety zones will be in effect for the duration of the events. In cases where shipping is affected, commercial vessels may request permission from the Captain of the Port Detroit to transit the safety zone. Approval will be made on a case-by-case basis. Requests must be made in advance and approved by the Captain of the Port before transits will be authorized. The Captain of the Port may be contacted via U.S. Coast Guard Group Detroit on channel 16, VHF-FM.

Dated: June 10, 2003.
P.G. Gerrity,
Commander, Coast Guard, Captain of the Port Detroit.

[FR Doc. 03-15896 Filed 6-23-03; 8:45 am]

BILLING CODE 4910-15-P